DEPARTMENT OF TRANSPORTATION

Federal Aviation Administration

14 CFR Part 39

[Docket No. FAA-2023-0009; Project Identifier MCAI-2022-00789-T; Amendment 39-22712; AD 2024-06-07]

RIN 2120-AA64

Airworthiness Directives; Airbus SAS Airplanes

AGENCY: Federal Aviation Administration (FAA), DOT.

ACTION: Final rule.

SUMMARY: The FAA is superseding Airworthiness Directive (AD) 2020-05-16, which applied to certain Airbus SAS Model A319-115 airplanes; Model A320-214, -216, -232, -251N, and -271N airplanes; and Model A321-211, -231, -251N, -251NX, -253N, -271N, -271NX, and -272N airplanes. AD 2020-05-16 required a one-time detailed inspection of certain attaching points on the left-hand and right-hand wings for the correct installation of certain hardware, and, depending on findings, accomplishment of applicable corrective actions. This AD was prompted by reports of incomplete installations of the over wing panel lug attachments in the production assembly line and a determination that additional airplanes are subject to the unsafe condition. This AD continues to require the actions in AD 2020-05-16 and adds airplanes to the applicability, as specified in a European Union Aviation Safety Agency (EASA) AD, which is incorporated by reference. The FAA is issuing this AD to address the unsafe condition on these products.

DATES: This AD is effective May 22, 2024.

The Director of the Federal Register approved the incorporation by reference of a certain publication listed in this AD as of May 22, 2024.

ADDRESSES:

AD Docket: You may examine the AD docket at regulations.gov under Docket No. FAA-2023-0009; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available in the AD docket at regulations.gov under Docket No. FAA-2023-0009.

FOR FURTHER INFORMATION CONTACT: Timothy P. Dowling, Aviation Safety Engineer, FAA, 1600 Stewart Avenue, Suite 410, Westbury, NY 11590; telephone 206-231-3667; email timothy.p.dowling@faa.gov.

SUPPLEMENTARY INFORMATION:

Background

The FAA issued a notice of proposed rulemaking (NPRM) to amend 14 CFR part 39 to supersede AD 2020-05-16, Amendment 39-19866 (85 FR 15938, March 20, 2020) (AD 2020-05-16). AD 2020-05-16 applied to certain Airbus SAS Model A319-115 airplanes; Model A320-214, -216, -232, -251N, and -271N airplanes; and Model A321-211, -231, -251N, -251NX, -253N, -271N, -271NX, and -272N airplanes. AD 2020-05-16 required a one-time detailed inspection of certain attaching points on the left-hand and right-hand wings for the correct installation of certain hardware, and, depending on findings, accomplishment of applicable corrective actions. The FAA issued AD 2020-05-16 to address incomplete installations of the over wing panel lug attachments in the production assembly line, which, if not detected and corrected, could reduce the structural integrity of the wing.

The NPRM published in the Federal Register on January 13, 2023 (88 FR 2273). The NPRM was prompted by AD 2022-0111, dated June 15, 2022 (EASA AD 2022-0111), issued by EASA, which is the Technical Agent for the Member States of the European Union. EASA AD 2022-0111 states that since EASA AD 2019-0233 was issued, Airbus identified additional affected airplanes.

In the NPRM, the FAA proposed to continue to require the actions in AD 2020-05-16 and to add airplanes to the applicability, as specified in EASA AD 2022-0111. The FAA is issuing this AD to address the unsafe condition on these products.

The FAA issued a supplemental notice of proposed rulemaking (SNPRM) to amend 14 CFR part 39 to supersede AD 2020-05-16. The SNPRM published in the Federal Register on August 25, 2023 (88 FR 58116). The SNPRM was prompted by a determination that additional airplanes are subject to the unsafe condition, and by the issuance of EASA AD 2022-0111R1, dated July 26, 2023 (EASA AD 2022-0111R1). EASA AD added Model A321-213 airplanes to its applicability. In the SNPRM, the FAA proposed to continue to require the actions in AD 2020-05-16 and to add airplanes to the applicability, as specified in EASA AD 2022-0111R1. The FAA is issuing this AD to address incomplete installations of the over wing panel lug attachments in the production assembly line. The unsafe condition, if not addressed, could result in reduced structural integrity of the wing.

You may examine the MCAI in the AD docket at regulations.gov under Docket No. FAA-2023-0009.

Discussion of Final Airworthiness Directive

Comments

The FAA received no comments on the SNPRM or on the determination of the cost to the public.

Change Made to This Final Rule

Since issuing the SNPRM, the FAA determined that, for Group 2 airplanes, the procedures in Airbus Alert Operators Transmission (AOT) A57N012-19 are acceptable for compliance. EASA AD 2022-0111R1 specifies that Group 2 airplanes must use Airbus Service Bulletin A320-57-1234 and Airbus Service Bulletin A320-57-1235, as applicable. However, the FAA has coordinated with Airbus and determined that the actions identified in Airbus AOT A57N012-19 are equivalent to the applicable actions found in the specified service information. Therefore, the FAA added paragraph (j) of this AD to provide credit for Group 2 airplanes.

Conclusion

This product has been approved by the aviation authority of another country and is approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on this product. Except for minor editorial changes, and any other changes described previously, this AD is adopted as proposed in the SNPRM. None of the changes will increase the economic burden on any operator.

Related Service Information Under 1 CFR Part 51

EASA AD 2022-0111R1 specifies procedures for a one-time detailed inspection of certain attaching points on the left-hand and right-hand wings for the correct installation of certain hardware (bolt, nut, washer, and cotter pin), and, depending on findings, accomplishment of applicable corrective actions. Corrective actions include installing missing hardware, properly orienting hardware, and performing a damage assessment for cracks and deformed parts in the event of missing hardware, and repair. For certain airplanes, EASA AD 2022-0111R1 also specifies reporting the inspection results to Airbus. This material is reasonably available because the interested parties have access to it through their normal course of business or by the means identified in the ADDRESSES section.

Costs of Compliance

The FAA estimates that this AD affects 131 airplanes of U.S. registry. The FAA estimates the following costs to comply with this AD:

Estimated Costs for Required Actions *
Labor cost | Parts cost | Cost per product | Cost on U.S. operators
2 work-hours × $85 per hour = $170 | $0 | $170 | $22,700
* Table does not include estimated costs for reporting.

The FAA estimates that it would take about 1 work-hour per product to comply with the reporting requirement in this AD. The average labor rate is $85 per hour. Based on these figures, the FAA estimates the cost of reporting the inspection results on U.S. operators to be up to $11,135, or $85 per product.

The FAA estimates the following costs to do any necessary on-condition actions that would be required based on the results of any required actions. The FAA has no way of determining the number of aircraft that might need these on-condition actions:

Estimated Costs of On-Condition Actions
Labor cost | Parts cost | Cost per product
Up to 20 work-hours × $85 per hour = $1,700 | Up to $77,850 | Up to $79,550

Paperwork Reduction Act

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2020-05-16, Amendment 39-19866 (85 FR 15938, March 20, 2020); and

b. Adding the following new AD:

2024-06-07 Airbus SAS: Amendment 39-22712; Docket No. FAA-2023-0009; Project Identifier MCAI-2022-00789-T.

(a) Effective Date

This airworthiness directive (AD) is effective May 22, 2024.

(b) Affected ADs

This AD replaces AD 2020-05-16, Amendment 39-19866 (85 FR 15938, March 20, 2020) (AD 2020-05-16).

(c) Applicability

This AD applies to the Airbus SAS airplanes specified in paragraphs (c)(1) through (3) of this AD, certificated in any category, as identified in European Union Aviation Safety Agency (EASA) AD 2022-0111R1, dated July 26, 2023 (EASA AD 2022-0111R1).

(1) Model A319-115 airplanes.

(2) Model A320-214, -216, -232, -251N, and -271N airplanes.

(3) Model A321-211, -213, -231, -251N, -251NX, -252NX, -253N, -253NX, -271N, -271NX, and -272N airplanes.

(d) Subject

Air Transport Association (ATA) of America Code 57, Wings.

(e) Unsafe Condition

This AD was prompted by reports of incomplete installations of the over wing panel lug attachments in the production assembly line and a determination that additional airplanes are subject to the unsafe condition. The FAA is issuing this AD to address these incomplete installations. The unsafe condition, if not addressed, could result in reduced structural integrity of the wing.

(f) Compliance

Comply with this AD within the compliance times specified, unless already done.

(g) Requirements

Except as specified in paragraph (h) of this AD: Comply with all required actions and compliance times specified in, and in accordance with, EASA AD 2022-0111R1.

(h) Exceptions to EASA AD 2022-0111R1

(1) Where EASA AD 2022-0111R1 refers to its effective date, this AD requires using the effective date of this AD.

(2) Where EASA AD 2022-0111R1 refers to October 2, 2019 (the effective date of EASA AD 2019-0233, dated September 18, 2019), this AD requires using April 24, 2022 (the effective date of AD 2020-05-16).

(3) Where paragraph (5) of EASA AD 2022-0111R1 specifies to “contact Airbus for approved instructions, and within the compliance time identified therein, accomplish those instructions accordingly,” this AD requires replacing that text with “contact Airbus for approved instructions, and within the compliance time identified therein, accomplish those instructions accordingly, except if any cracking is detected, the cracking must be repaired before further flight using a method approved by the Manager, International Validation Branch, FAA; or EASA; or Airbus SAS's EASA Design Organization Approval (DOA). If approved by the DOA, the approval must include the DOA-authorized signature.”

(4) This AD does not adopt the “Remarks” section of EASA AD 2022-0111R1.

(5) Where paragraph (2) of EASA AD 2022-0111R1 specifies a compliance time of “before exceeding 14,000 flight hours or 7,000 flight cycles, whichever occurs first since aeroplane first flight,” this AD requires replacing that text with “before exceeding 14,000 flight hours or 7,000 flight cycles, whichever occurs first since airplane first flight; or within 6 months after the effective date of this AD; whichever occurs later.”

(i) No Reporting Requirement for Certain Airplanes

For Group 1 airplanes, as identified in EASA AD 2022-0111R1, this AD does not require reporting.

(j) Credit for Previous Actions

For Group 2 airplanes, as identified in EASA AD 2022-0111R1: This paragraph provides credit for the inspections and corrective actions required by paragraphs (2) and (5) of EASA AD 2022-0111R, if those actions were performed before the effective date of this AD using Airbus Alert Operators Transmission (AOT) A57N012-19, dated March 20, 2019; or Airbus AOT A57N012-19, Revision 01 dated April 18, 2019.

(k) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (l)(1) of this AD. Information may be emailed to: 9-AVS-AIR-730-AMOC@faa.gov.

(i) Before using any approved AMOC, notify your appropriate principal inspector, or lacking a principal inspector, the manager of the responsible Flight Standards Office. (ii) AMOCs approved previously for AD 2020-05-16 are approved as AMOCs for the corresponding provisions of EASA AD 2022-0111R1 that are required by paragraph (g) of this AD.

(2) Contacting the Manufacturer: For any requirement in this AD to obtain instructions from a manufacturer, the instructions must be accomplished using a method approved by the Manager, International Validation Branch, FAA; or EASA; or Airbus SAS's EASA DOA. If approved by the DOA, the approval must include the DOA-authorized signature.

(3) Required for Compliance (RC): Except as required by paragraph (k)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Additional Information

(1) For more information about this AD, contact Timothy P. Dowling, Aviation Safety Engineer, FAA, 1600 Stewart Avenue, Suite 410, Westbury, NY 11590; telephone 206-231-3667; email timothy.p.dowling@faa.gov.

(2) For Airbus service information identified in this AD that is not incorporated by reference, contact Airbus SAS, Airworthiness Office—EIAS, Rond-Point Emile Dewoitine No: 2, 31700 Blagnac Cedex, France; telephone +33 5 61 93 36 96; fax +33 5 61 93 44 51; email account.airworth-eas@airbus.com; website airbus.com.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2022-0111R1, dated July 26, 2023.

(ii) [Reserved]

(3) For EASA AD 2022-0111R1, contact EASA, Konrad-Adenauer-Ufer 3, 50668 Cologne, Germany; telephone +49 221 8999 000; email ADs@easa.europa.eu; website easa.europa.eu. You may find this EASA AD on the EASA website at ad.easa.europa.eu.

(4) You may view this service information at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on March 15, 2024.
Victor Wicklund,
Deputy Director, Compliance & Airworthiness Division, Aircraft Certification Service.

[FR Doc. 2024-08106 Filed 4-16-24; 8:45 am]

BILLING CODE 4910-13-P